DEPARTMENT OF THE INTERIOR

National Park Service

[NPS-WASO-NAGPRA-12884; PPWOCRADN0-PCU00RP14.R50000]

Notice of Inventory Completion for Native American Human Remains and Associated Funerary Objects in the Control of the U.S. Department of the Interior, Bureau of Land Management, New Mexico State Office, Santa Fe, NM; Correction

AGENCY: National Park Service, Interior.

ACTION: Notice; correction.

SUMMARY: The U.S. Department of the Interior, Bureau of Land Management, New Mexico State Office has corrected an inventory of human remains and associated funerary objects published in a Notice of Inventory Completion in the Federal Register on March 20, 2001. This notice corrects the minimum number of individuals and number of associated funerary objects. Lineal descendants or representatives of any Indian tribe or Native Hawaiian organization not identified in this notice that wish to request transfer of control of these human remains and associated funerary objects should submit a written request to the Bureau of Land Management, New Mexico State Office. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the Bureau of Land Management, New Mexico State Office, at the address in this notice by June 12, 2013.

ADDRESSES: Signa Larralde, Deputy Preservation Officer and NAGPRA Coordinator, Bureau of Land Management, New Mexico State Office, 301 Dinosaur Trail, Santa Fe, NM 87508, telephone (505) 954-2179, email slarrald@blm.gov.

SUPPLEMENTARY INFORMATION: Notice is here given in accordance with the Native American Graves Protection and Repatriation Act (NAGPRA), 25 U.S.C. 3003, of the correction of an inventory of human remains and associated funerary objects under the control of the Bureau of Land Management, New Mexico State Office, Santa Fe, NM. The human remains and associated funerary objects were removed from Rio Arriba County, NM.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

This notice corrects the minimum number of individuals and number of associated funerary objects published in a Notice of Inventory Completion in the Federal Register (66 FR 15743-15744, March 20, 2001). A re-inventory and reassessment of collections resulted in the discovery of additional human remains and associated funerary objects from one site listed in this notice. Transfer of control of the items in this correction notice has not occurred.

Correction

In the Federal Register (66 FR 15743-15744, March 20, 2001), paragraph 7, sentence 1 is corrected by substituting the following sentence:

Between 1979 and 1981, human remains representing ten individuals were recovered from site LA 297 in New Mexico during legally authorized excavations and collections by Occidental College.

In the Federal Register (66 FR 15743, March 20, 2001), paragraph 7, sentence 4 is corrected by substituting the following sentence:

The 97 associated funerary objects include 1 whole ceramic vessel; 1 lot of burial matting; 3 lots of corn cobs; 1 turquoise fragment; 2 turquoise chips; 1 lot of turquoise, shell, and mineral chips; 1 obsidian drill; 67 pieces of lithic debitage; 11 ceramic sherds; 2 pebbles; 2 lithic cores; 1 soil sample; and 4 faunal remains.

In the Federal Register (66 FR 15743, March 20, 2001), paragraph 10, sentences 1 and 2 are corrected by substituting the following sentences:

Based on the above mentioned information, officials of the New Mexico State Office of the Bureau of Land Management have determined that, pursuant to 43 CFR 10.2 (d)(1), the human remains listed above represent the physical remains of 13 individuals of Native American ancestry. Officials of the New Mexico State Office of the Bureau of Land Management also have determined that, pursuant to 43 CFR 10.2 (d)(2), the 97 objects listed above are reasonably believed to have been placed with or near individual human remains at the time of death or later as part of the death rite or ceremony.

Additional Requestors and Disposition

Lineal descendants or representatives of any Indian tribe or Native Hawaiian organization not identified in this notice that wish to request transfer of control of these human remains and associated funerary objects should submit a written request with information in support of the request to Signa Larralde, Deputy Preservation Officer and NAGPRA Coordinator, Bureau of Land Management, New Mexico State Office, 301 Dinosaur Trail, Santa Fe, NM 87508, telephone (505) 954-2179, email slarrald@blm.gov by June 12, 2013. After that date, if no additional requestors have come forward, transfer of control of the human remains and associated funerary objects to the Ohkay Owingeh, New Mexico (previously listed as the Pueblo of San Juan); Pueblo of Nambe, New Mexico; Pueblo of Pojoaque, New Mexico; Pueblo of San Ildefonso, New Mexico; Pueblo of Santa Clara, New Mexico; and the Pueblo of Tesuque, New Mexico, may proceed.

The Bureau of Land Management, New Mexico State Office, is responsible for notifying the Hopi Tribe of Arizona; Navajo Nation, Arizona, New Mexico &Utah; Ohkay Owingeh, New Mexico (previously listed as the Pueblo of San Juan); Pueblo of Acoma, New Mexico; Pueblo of Jemez, New Mexico; Pueblo of Isleta, New Mexico; Pueblo of Nambe, New Mexico; Pueblo of Pojoaque, New Mexico; Pueblo of San Ildefonso, New Mexico; Pueblo of Santa Clara, New Mexico; Pueblo of Tesuque, New Mexico; Pueblo of Zia, New Mexico; and the Zuni Tribe of the Zuni Reservation, New Mexico, that this notice has been published.

Dated: April 19, 2013.
Melanie O'Brien,
Acting Manager, National NAGPRA Program.

[FR Doc. 2013-11229 Filed 5-10-13; 8:45 am]

BILLING CODE 4312-50-P